MORRIS K. UDALL AND STEWART L. UDALL FOUNDATION

Sunshine Act Meetings

TIME AND DATE: 9:00 a.m. to 3:45 p.m., Friday, November 6, 2015.

PLACE: The offices of the Morris K. Udall and Stewart L. Udall Foundation, 130 South Scott Avenue, Tucson, AZ 85701.

STATUS: This meeting of the Board of Trustees will be open to the public.

MATTERS TO BE CONSIDERED: (1) Call to Order & Chair's Remarks; (2) Executive Director's Remarks; (3) Consent Agenda Approval (Minutes of the October 16, 2014, and April 16, 2015, Board of Trustees Meetings; Board Reports submitted for the Education Programs, U.S. Institute for Environmental Conflict Resolution, Udall Center for Studies in Public Policy-Native Nations Institute-Udall Archives & their Workplan, and Communications; and resolutions regarding Allocation of Funds to the Udall Center for Studies in Public Policy and Transfer of Funds to the Native Nations Institute for Leadership, Management, and Policy); (4) Financial & Internal Controls Update; (5) Native Nations Institute Discussion; (6) Parks in Focus Partnership with Western National Parks Association; (7) Native American Alaska Native Sector Discussion; (8) Udall Scholarship & Internship Recruitment Discussion; (9) Appropriations Update; and (10) Chair's Closing Remarks.

CONTACT PERSON FOR MORE INFORMATION: Philip J. Lemanski, Executive Director, 130 South Scott Avenue, Tucson, AZ 85701, (520) 901-8500.

Dated: October 14, 2015.
Philip J. Lemanski,
Executive Director, Morris K. Udall and Stewart L. Udall Foundation, and Federal Register Liaison Officer.

[FR Doc. 2015-26602 Filed 10-15-15; 4:15 pm]

BILLING CODE 6820-FN-P